CORPORATION FOR NATIONAL AND COMMUNITY SERVICE

Proposed Information Collection; Comment Request

AGENCY: Corporation for National and Community Service.

ACTION: Notice.

SUMMARY: The Corporation for National and Community Service (hereinafter the “Corporation”), as part of its continuing effort to reduce paperwork and respondent burden, conducts a preclearance consultation program to provide the general public and Federal agencies with an opportunity to comment on proposed and/or continuing collections of information in accordance with the Paperwork Reduction Act of 1995 (PRA95) (44 U.S.C. § 3506(c)(2)(A)). This program helps to ensure that requested data can be provided in the desired format, reporting burden (time and financial resources) is minimized, collection instruments are clearly understood, and the impact of collection requirement on respondents can be properly assessed.

Currently, the Corporation is soliciting comments concerning its proposed applications entitled: AmeriCorps Promise Fellows Continuation Application Instructions. Copies of the information collection requests can be obtained by contacting the office listed below in the ADDRESSES section of this notice.

DATES: Written comments must be submitted to the office listed in the ADDRESSES section by June 5, 2000.

ADDRESSES: Send comments to the Corporation for National and Community Service, Tracy Stone, Director, AmeriCorps Promise Fellows, 1201 New York Avenue, N.W., Washington, D.C., 20525.

FOR FURTHER INFORMATION CONTACT: Tracy Stone (202) 606-5000, ext. 173.

SUPPLEMENTARY INFORMATION:

Comment Request

The Corporation is particularly interested in comments which:

• Evaluate whether the proposed collection of information is necessary for the proper performance of the functions of the Corporation, including whether the information will have practical utility;

• Evaluate the accuracy of the agency's estimate of the burden of the proposed collection of information, including the validity of the methodology and assumptions used;

• Enhance the quality, utility and clarity of the information to be collected; and

• Minimize the burden of the collection of information on those who are to respond, including through the use of appropriate automated, electronic, mechanical, or other technological collection techniques or other forms of information technology, e.g., permitting electronic submissions of responses.

Background

The AmeriCorps Promise Fellows program supports a leadership cadre of AmeriCorps members spearheading community efforts to provide young people with five basic promises:

• Caring adults in their lives as parents, mentors, tutors, and coaches;

• Safe places with structured activities in which to learn and grow;

• A healthy start;

• An effective education that equips them with marketable skills; and

• An opportunity to give back to communities through their own service.

The AmeriCorps Promise Fellows Continuation Application Instructions provide the requirements, instructions and forms that current grantees of the program need to complete an application to the Corporation for continued funding.

Current Action

The Corporation seeks public comment on the forms, the instructions for the forms, and the instructions for the narrative portion of these continuation application instructions.

Type of Review: New collection.

Agency: Corporation for National and Community Service.

Title: AmeriCorps Promise Fellows Continuation Application Instructions.

OMB Number: None.

Agency Number: None.

Affected Public: Entities in their second or third year of operation as grantees of the Corporation's AmeriCorps Promise Fellows program.

Total Respondents: 66.

Frequency: Once per year.

Average Time Per Response: 25 hours.

Estimated Total Burden Hours: 1,650 hours.

Total Burden Cost (capital/startup): None.

Total Burden Cost (operating/maintenance): None.

Comments submitted in response to this notice will be summarized and/or included in the request for Office of Management and Budget approval of the information collection request; they will also become a matter of public record.

Dated: March 28, 2000.
Thomasenia P. Duncan,
General Counsel.

[FR Doc. 00-8206 Filed 4-3-00; 8:45 am]

BILLING CODE 6050-28-U